DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held January 14 & 15, 2009.

The meetings will be in the First State Bank of Malta conference room, 1 South 1st Street East, in Malta, Montana.

The January 14 meeting will begin at 10 a.m. with a 30-minute public comment period and will adjourn at 5 p.m.

The January 15 meeting will begin at 8 a.m. with a 30-minute public comment period and will adjourn at 3 p.m.

SUPPLEMENTARY INFORMATION: This 15-member council advises the Secretary of the Interior on a variety of management issues associated with public land management in Montana. During these meetings the council will participate in/discuss/act upon:

Administrative details (reviewing the council's charter, a briefing about the consensus process, the council's 2009 work plan, roles and responsibilities and the council's expectations);

Russian olive reduction efforts along the Upper Missouri River;

Field manager updates;

A review of BLM livestock grazing regulations;

A presentation from the Ranchers Stewardship Alliance;

A discussion of riparian information;

A report about the Limekiln Ruby Timber Blow-down;

A discussion of U.S. Forest Service fee proposals;

A presentation by the American Prairie Foundation; and administrative details (next meeting agenda, location, etc.).

All RAC meetings are open to the public. The public may present written comments to the RAC. Each formal RAC meeting will also have time allocated for hearing public comments. Depending on the number of persons wishing to comment and time available, the time for individual oral comments may be limited.

FOR FURTHER INFORMATON CONTACT: Gary L. “Stan” Benes, Lewistown Field Manager, Lewistown Field Office, P.O. Box 1160, Lewistown, Montana 59457, 406/538-1900.

Dated: December 5, 2008.
Gary L. “Stan” Benes,
Lewistown Field Manager.

[FR Doc. E8-29417 Filed 12-11-08; 8:45 am]

BILLING CODE 4310-$$-P